DEPARTMENT OF AGRICULTURE

Rural Business-Cooperative Service

Announcement of the Small, Minority Producer Grant Program Application Deadlines

AGENCY: Rural Business—Cooperative Service, USDA.

ACTION: Notice of solicitation of applications.

SUMMARY: The Rural Business-Cooperative Service announces the availability of approximately $1.473 million in competitive grant funds for fiscal year (FY) 2006 for cooperatives and associations of cooperatives to assist small minority producers. USDA Rural Development Cooperative Programs hereby requests proposals from eligible cooperatives and associations of cooperatives interested in a competitively awarded grant. The cooperatives and associations of cooperatives will be use the grants to fund technical assistance to rural businesses. The maximum award per grant is $200,000.

DATES: Applicants may submit completed applications for grants on paper or electronically according to the following deadlines:

Paper copies must be postmarked and mailed, shipped, or sent overnight no later than July 28, 2006, to be eligible for FY 2006 grant funding. Late applic­ations are not eligible for FY 2006 grant funding.

Electronic copies must be received by July 28, 2006, to be eligible for FY 2006 grant funding. Late applications are not eligible for FY 2006 grant funding.

The comment period for information collection under the Paperwork Reduction Act of 1995 continues through August 14, 2006. Comments on the paperwork burden must be received by this date to be assured of consideration.

ADDRESSES: Applicants may obtain application guides and materials for the Small Minority Producer Grant Program (SMPG) at http://www.rurdev.usda.gov/rbs/SMPG/SMPG.htm or by contacting your USDA Rural Development State Office. You can reach your State Office by calling (202) 720-4323 and pressing “1”.

Submit completed paper applications for a grant to Cooperative Programs, Attn: SMPG Program, Mail Stop 3250, Room 4016-South, 1400 Independence Ave., SW., Washington, DC 20250-3250. The telephone number that should be used for FedEx packages is (202) 720-7558. You may also submit electronic grant applications at http://www.grants.gov, following the instructions found on this Website.

FOR FURTHER INFORMATION CONTACT: Visit the program Web site at http://www.rurdev.usda.gov/rbs/coops/SMPG/SMPG.htm, which contains application guidance or contact USDA Rural Development Cooperative Programs at 202-720-7558 or cpgrants@wdc.usda.gov. Applicants are encouraged to contact Cooperative Programs well in advance of the deadline to discuss their projects and ask any questions about the application process.

SUPPLEMENTARY INFORMATION:

Paperwork Reduction Act

The collection of information requirements contained in this notice have received temporary emergency clearance by the Office of Management and Budget (OMB) under Control Number 0570-0052. However, in accordance with the paperwork Reduction Act of 1995, USDA Rural Development will seek standard OMB approval of the reporting requirements contained in this Notice and hereby opens a 60-day public comment period.

Title: Small Minority Producer Grant Program.

Type of Request: New collection.

Abstract: USDA Rural Development needs to receive the information contained in this collection of information to select the projects it believes will provide the most long-term economic benefit to rural areas. The selection process is competitive. USDA Rural Development will ensure that the funds are used for the intended purpose. The primary focus is to provide assistance to small minority producers and whose governing board and/or membership is comprised of at least 75 percent minority. These funds are to be used for cooperatives and association of cooperatives to provide technical assistance to small minority producers and minority cooperatives in rural areas.

Estimate of Burden: Public reporting burden contained in this collection of information is estimated to average 1 hour per response.

Respondents: Minority Cooperatives and Minority Associations of Cooperatives

Estimated Number of Respondents: 25.

Estimated Number of Responses per Respondent: 14.

Estimated Number of Responses: 347.

Estimated Total Annual Burden on respondents: 418.

Copies of this information collection can be obtained from Cheryl Thompson, Regulations and Paperwork Management Branch, at (202) 692-0043.

Comments

Comments are invited on: (a) Whether the proposed collection of information is necessary for the proper performance of the functions of Rural Development, including whether the information will have practical utility; (b) the accuracy of Rural Development's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Cheryl Thompson, Regulations and Paperwork Management Branch, Support Services Division, U.S. Department of Agriculture, Rural Development, STOP 0742, 1400 Independence Ave., SW., Washington, DC 20250. All responses to this notice will be summarized and included in the request for OMB approval. All comments will also become a matter of public record.

Overview

Federal Agency: Rural Business-Cooperative Service (RBS).

Funding Opportunity Title: Small, Minority Producer Grants.

Announcement Type: Initial announcement.

Catalog of Federal Domestic Assistance Number: 10-771

Dates: Application Deadline: Applicants may submit completed applications for grants on paper or electronically according to the following deadlines:

Paper copies must be postmarked and mailed, shipped, or sent overnight no later than July 28, 2006, to be eligible for FY 2006 grant funding. Late applications are not eligible for FY 2006 grant funding.

Electronic copies must be received by July 28, 2006, to be eligible for FY 2006 grant funding. Late applications are not eligible for FY 2006 grant funding.

Programs Affected

This will not affect other programs in USDA Rural Development.

I. Funding Opportunity Description

This solicitation is issued pursuant to the Agriculture, Rural Development, Food and Drug Administration and Related Agencies Appropriations Act, 2006, Public Law 109-97 (November 10, 2005) which authorizes not to exceed $1,473,120 for cooperatives or associations of cooperatives whose primary focus is to provide assistance to small minority producers and whose governing board and/or membership is comprised of at least 75 percent minority members. The Secretary of Agriculture has delegated the program's administration to USDA Rural Development Cooperative Programs.

The primary objective of this grant program is to assist small, minority producers through cooperatives and associations of cooperatives. USDA Rural Development Cooperative Programs will competitively award grants to fund cooperatives and/or associations of cooperatives to provide technical assistance to small minority producers in rural areas. The maximum award amount per grant is $200,000.

Definitions

Agency—Rural Business-Cooperative Service, an agency of the United States Department of Agriculture (USDA) or a successor agency.

Agricultural Commodity—An unprocessed product of farms, ranches, nurseries, and forests. Agricultural commodities include: Livestock, poultry, and fish; fruits and vegetables; grains, such as wheat, barley, oats, rye, triticale, rice, corn, and sorghum; legumes, such as field beans and peas; animal feed and forage crops; seed crops; fiber crops, such as cotton; oil crops, such as safflower, sunflower, corn, and cottonseed; trees grown for lumber and wood products; nursery stock grown commercially; Christmas trees; ornamentals and cut flowers; and turf grown commercially for sod. Agricultural commodities do not include horses or animals raised as pets, such as cats, dogs, and ferrets.

Cooperative Programs—The office within USDA Rural Development, and its successor organization, that administers programs authorized by the Cooperative Marketing Act of 1926 (7 U.S.C. 451 et seq.) and such other programs identified in USDA regulations.

Economic Development—The economic growth of an area as evidenced by increase in total income, employment opportunities, decreased out-migration of population, value of production, increased diversification of industry, higher labor force participation rates, increased duration of employment, higher wage levels, or gains in other measurements of economic activity, such as land values.

Feasibility Study—An analysis of the economic, market, technical, financial, and management feasibility of a proposed Project.

Minority—Individuals who have been subjected to racial, ethnic, gender prejudice or cultural bias within American society because of their identities as members of groups and without regard to their individual qualities. Minority groups are Women, African Americans not of Hispanic Origin, American Indians, Alaskan Natives, Hispanics, Asian and Pacific Islanders.

Minority Association of Cooperatives—An association of cooperatives whose primary focus is to provide assistance to small, minority producers and where the governing board and/or membership is comprised of at least 75 percent minority.

Minority Cooperative—A farmer-or rancher-owned and -controlled business, incorporated as a cooperative, from which benefits are derived and distributed equitably on the basis of use by each of the farmer or rancher owners whose primary focus is to provide assistance to small, minority producers and where the governing board and/or membership is comprised of at least 75 percent minority.

Operating Cost—The day-to-day expenses of running a business; for example: utilities, rent, salaries, depreciation, product production costs, marketing and advertising, and other basic overhead items.

Project—Includes all activities to be funded by the Small Minority Producer Grant.

Small Minority Producers—Minority persons or 100 percent minority-owned entities, including farmers, ranchers, loggers, agricultural harvesters, and fishermen, with gross annual sales of not more than $250,000 that engage in the production or harvesting of an agricultural commodity.

Rural and Rural Area—Includes all the territory of a State that is not within the outer boundary of any city or town having a population of 50,000 or more and the urbanized area contiguous and adjacent to such city or town, as defined by the U.S. Bureau of the Census using the latest decennial census of the United States.

Rural Development—A mission area within USDA consisting of the Office of Under Secretary for Rural Development, Office of Community Development, Rural Development Business and Cooperative Programs, Rural Development Housing Programs, and Rural Development Utilities Programs and their successors.

State—Includes each of the several States, the Commonwealth of Puerto Rico, the Virgin Islands of the United States, Guam, American Samoa, the Commonwealth of the Northern Mariana Islands, and, as may be determined by the Secretary to be feasible, appropriate and lawful, the Federated States of Micronesia, the Republic of the Marshall Islands and the Republic of Palau.

Technical Assistance—An advisory service performed for the benefit of a small, minority producer such as market research; product and/or service improvement; legal advice and assistance; feasibility study, business plan, and marketing plan development; and training. Technical assistance does not include the operating costs of a cooperative being assisted.

II. Award Information

Type of Award: Grant.

Fiscal Year Funds: FY 2006.

Approximate Total Funding: $1.473 million.

Approximate Number of Awards: 7.

Approximate Average Award: $200,000.

Floor of Award Range: None.

Ceiling of Award Range: $200,000.

Anticipated Award Date: August 30, 2006.

Budget Period Length: 12 months.

Project Period Length: 12 months.

III. Eligibility Information

A. Eligible Applicants

Applicants must be a minority cooperative or a minority association of cooperatives.

B. Cost Sharing or Matching

No matching funds are required.

C. Other Eligibility Requirements

Use of Funds: The funds may only be used for technical assistance projects.

Project Area Eligibility: The Project proposed must take place in a rural area.

Grant Period Eligibility: If awarded, funds must be expended in 1 year. Applications that have a time frame of more than 365 days will be considered ineligible. Applications that request funds for a time period ending after September 30, 2007, will not be considered for funding.

Completeness Eligibility: The applicant must provide sufficient documentation to determine eligibility. Applications without sufficient information to determine eligibility will not be considered for funding. Applications that are missing any required elements (in whole or in part) will be ineligible for funding, except as set forth in Section V.B.

Multiple Grant Eligibility: An applicant may not submit more than one grant application in any one funding cycle.

IV. Application and Submission Information

A. Address to Request Application Package

If you plan to apply using a paper application, you can obtain the application package for this funding opportunity: http://www.rurdev.usda.gov/rbs/coops/SMPG/SMPG.htm. If you do not have access to the Internet, or if you have difficulty accessing the forms online, you may contact Cooperative Programs at 202-720-7558 or cpgrants@wdc.usda.gov. If you plan to apply electronically, you must visit http://www.grants.gov and follow the instructions.

B. Content and Form of Submission

You may submit your application in paper or electronic format. If you submit your application in paper form, you must submit one signed original of your complete application. The application should be in the following format:

Font size: 12 point unreduced.

Paper size: 8.5 by 11 inches. Printed on only one side of each page. Held together only by rubber bands or metal or plastic clips; not bound in any other way.

The submission must include all pages of the application. It is recommended that the application be in black and white, and not color. Those evaluating the application will only receive black and white images.

If you submit your application electronically, you must follow the instructions given at the Internet address: http://www.grants.gov. Applicants are advised to visit the site well in advance of the application deadline if they plan to apply electronically to ensure that they have obtained the proper authentication and have sufficient computer resources to complete the application.

An application must contain all of the following elements. Any application that is missing any element or contains an incomplete element will not be considered for funding except as set forth in Section V.B.

1. Form SF-424, “Application for Federal Assistance.” In order for this form to be considered complete, it must contain the legal name of the applicant; the applicant's Dun and Bradstreet Data Universal Numbering System (DUNS) number; the applicant's complete mailing address; the name and telephone number of a contact person; the employer identification number; the start and end dates of the project; the Federal funds requested; other funds that will be used as matching funds; an answer to the question, “Is applicant delinquent on any Federal debt?;” the name and signature of an authorized representative; the telephone number of the authorized representative; and the date the form was signed. Other information requested on the form may be applicable, but the above-listed information is required for the form to be considered complete.

You are required to have a DUNS number to apply for a grant from USDA Rural Development Cooperative Programs unless you are an individual. The DUNS number is a nine-digit identification number, which uniquely identifies business entities. Obtaining a DUNS number is easy, and there is no charge. To obtain a DUNS number, access http://www.dnb.com/us/ or call (866) 705-5711. For more information, see the SMPG Web site at: http://www.rurdev.usda.gov/rbs/coops/SMPG/SMPG.htm or contact Cooperative Programs at 202-720-7558 or cpgrants@wdc.usda.gov.

2. Form SF-424A, “Budget Information-Non-Construction Programs.” In order for this form to be considered complete, the applicant must fill out sections A, B, C, and D. The application must include both Federal and matching funds (if matching funds are included in the project) as requested on the form.

3. Form SF-424B, “Assurances—Non-Construction Programs.” In order for this form to be considered complete, the form must be signed by an authorized official and include the title, name of applicant, and date submitted.

4. Table of Contents. For ease of locating information, each application must contain a detailed Table of Contents (TOC) immediately following the SF-424B. The TOC must include page numbers for each component of the application. Pagination should begin immediately following the TOC. In order for this element to be considered complete, the TOC must include page numbers for the executive summary, an eligibility discussion, work plan, and proposal evaluation criteria.

5. Executive Summary: A summary of the proposal, not to exceed one page, must briefly describe the project, tasks to be completed and other relevant information that provides a general overview of the project.

6. Eligibility Discussion: A detailed discussion, not to exceed four pages, must describe how the applicant meets the following requirements.

(i) Applicant Eligibility: If the applicant is a cooperative, the application must reference the business' good standing as a cooperative in its state of incorporation. If the applicant is an association of cooperatives, the application must reference the association's good standing as a legal business structure in its state of incorporation. The applicant must describe how it meets the definition of a “minority cooperative” or “minority association of cooperatives” as defined in the Definitions section of this Notice. The applicant must apply as only one type of applicant.

(ii) Use of Funds: The applicant must provide a detailed discussion on how the proposed project activities meet the definition of technical assistance.

(iii) Project Area: The applicant must provide information on where the projects are planned to be located and that the areas meet the “rural area” definition.

(iv) Grant Period: The applicant must provide a time frame for the proposed project and discuss how the project will be completed within that time frame.

7. Budget/Work plan: The applicant must describe, in detail not to exceed four pages, the purpose of the grant, specific sub-recipients including racial and ethnicity information, what type of assistance will be provided to the sub-recipients, and the amount of funds needed to assist each sub-recipient. The budget must present a breakdown of estimated costs associated with each project. The costs should be broken down in the same categories as the SF-424A. The amount of grant funds requested will be adjusted if the applicant does not have justification for all costs.

8. Evaluation Criteria: Each of the evaluation criteria referenced in this notice must be addressed, specifically and individually, in narrative form, not to exceed a total of one page for each evaluation criteria. Failure to address the evaluation criteria by the application deadline will result in the application being determined ineligible, except as described in Section V.B.

C. Submission Dates and Times

Application Deadline Date: July 28, 2006.

Explanation of Deadlines: Paper applications must be postmarked and mailed, shipped, or sent overnight by the deadline date (see Section IV.F. for the address). Electronic applications must be received by www.grants.gov by the deadline date. Courier applications must be delivered by the deadline date. If your application does not meet the deadline, it will not be considered for funding. You will be notified that your application did not meet the submission deadline. You will also be notified by mail or by e-mail if your application is received on time.

D. Intergovernmental Review of Applications

Executive Order 12372 (EO), Intergovernmental review of Federal programs, applies to this program. This EO requires that Federal agencies provide opportunities for consultation on proposed assistance with State and local governments. Many states have established a Single Point of Contact (SPOC) to facilitate this consultation. A list of States that maintain an SPOC may be obtained at http://www.whitehouse.gov/omb/grants/spoc.html. If your State has an SPOC, you may submit your application directly for review. Any comments obtained through the SPOC must be provided to Rural Development for consideration as part of your application. If your State has not established an SPOC or you do not want to submit your application, Rural Development will submit your application to the SPOC or other appropriate agency or agencies.

You are also encouraged to contact Cooperative Programs at 202-720-7558 or cpgrants@wdc.usda.gov if you have questions about this process.

E. Funding Restrictions

Grant funds must be used for technical assistance. No funds made available under this solicitation shall be used to:

1. Plan, repair, rehabilitate, acquire, or construct a building or facility, including a processing facility;

2. Purchase, rent, or install fixed equipment, including processing equipment;

3. Purchase vehicles, including boats;

4. Pay for the preparation of the grant application;

5. Pay expenses not directly related to the funded project;

6. Fund political or lobbying activities;

7. Fund any activities prohibited by 7 CFR parts 3015 and 3019;

8. Fund architectural or engineering design work for a specific physical facility;

9. Fund any expenses related to the production of any commodity or product to which value will be added, including seed, rootstock, labor for harvesting the crop, and delivery of the commodity to a processing facility;

10. Fund research and development;

11. Purchase land;

12. Duplicate current services or replace or substitute support previously provided;

13. Pay costs of the project incurred prior to the date of grant approval;

14. Pay for assistance to any private business enterprise which does not have at least 51 percent ownership by those who are either citizens of the United States or reside in the United States after being legally admitted for permanent residence;

15. Pay any judgment or debt owed to the United States;

16. Pay the operating costs of cooperative and/or association of cooperatives; or

17. Pay expenses for applicant employee training.

F. Other Submission Requirements

You may submit your paper application for a grant to Cooperative Programs, Attn: SMPG Program, Mail STOP 3250, Room 4016-South, 1400 Independence Ave., SW., Washington, DC 20250-3250. The telephone number that should be used for FedEx packages is 202-720-7558. You may also choose to submit your application electronically at http://www.grants.gov. Applications may not be submitted by electronic mail, facsimile, or hand-delivery. Each application submission must contain all required documents in one envelope, if sent by mail or express delivery service.

V. Application Scoring Criteria Review Information

A. Criteria

All eligible and complete applications will be evaluated based upon the following criteria. Failure to address any one of the following criteria by the application deadline will result in the application being determined ineligible and the application will not be considered for funding, except as described in Section V.B. The total points possible for the criteria are 60 and the maximum number of points for each of the following sections is 15.

1. Rural Area: Projects must be in rural areas. Points will be awarded based upon the rural area where the proposed project is located. The Agency will determine if the area meets the rural area definition by using the following Website: http://maps.ers.usda.gov/loanlookup/viewer.htm.

(i) If the proposed project is located in a city or town with a population of at least 15,000 and no more than 25,000 people, 5 points will be awarded;

(ii) If the proposed project is located in a city or town with a population of at least 5,000 and less than 15,000 people, 10 points will be awarded; or

(iii) If the proposed project is located a city or town with a population of less than 5,000 people, 15 points will be awarded.

(iv) If the proposed project is located in an unincorporated area, 15 points will be awarded.

If the applicant proposes to provide assistance in multiple areas or cities, the applicant must list the areas or cities where the assistance will be provided, the population for each and the amount of assistance of each area. Points will be calculated by using the above point scale for each, with the points awarded using a weighted average of the points for the areas served. The information needed for this criterion may be obtained using the population finder tool at http://www.census.gov/.

2. Per capita personal income: Points will be awarded porportionally based upon a comparison of the per capita personal income of the county in which a proposed project is located to the state per capital personal income:

(i) If the per capita personal income level in the county where the proposed project will be located is less than 80 percent of the state per capita personal income level, 15 points will be awarded;

(ii) If the per capita personal income level in the county where the proposed project will be located is at least 80 percent and less than 90 percent of the state per capita personal income level, 10 points will be awarded;

(iii) If the per capita personal income level in the county where the proposed project will be located is at least 90 percent and less than 100 percent of the state per capita personal income level, 5 points will be awarded; or

(iv) If the per capita personal income level in the county where the proposed project will be located is equal to or exceeds the state per capita personal income, no points will be awarded.

If the applicant proposes to provide assistance in multiple counties, the applicant must list the counties where the assistance will be provided, the percentage of assistance intended to be spent in each county, and the per capita personal income level for each county. Points will be calculated by using the above point score for each county's per capital personal income level, with the total points awarded in proportion to where the assistance is directed. (For example, if 50% of the grant money will be spent in a county where the per capita income is below 80 percent, and 50% will be spent in a county where the per capita income is between 90 and 100 percent, points will be calculated as follows: [(.5)*(15) + (.5)*(5) = 10 points]. The information needed for this criterion may be obtained at http://www.bea.gov.

3. Experience. Points will be awarded based upon the relevant experience of the staff or the consultants hired to provide the proposed technical assistance.

(i) If the staff or consultants have no experience in providing technical assistance, 0 points will be awarded;

(ii) If the staff or consultants have experience in providing technical assistance, 5 points will be awarded;

(iii) If the staff or consultants have experience in providing the same type of technical assistance as proposed in the project, 10 points will be awarded; or

(iv) If the staff or consultants have experience in providing the same type of technical assistance as proposed in the project to small, minority producers, 15 points will be awarded.

Applicants must describe the specific type of technical assistance that each staff member or consultant has experience in providing. The Agency will compare the described assistance to the work plan to determine point totals.

4. Number of small minority producers assisted. Points will be awarded based upon the number of small, minority producers being assisted.

(i) If the proposed project will benefit 1-10 producers, 5 points will be awarded;

(ii) If the proposed project will benefit 11-50 producers, 10 points will be awarded; or

(iii) If the proposed project will benefit more than 50 producers, 15 points will be awarded.

Applicants must list the number of small, minority producers that will directly benefit from the assistance provided.

B. Review and Selection Process

The Agency will conduct an initial screening of all proposals to determine whether the applicant is eligible and whether all required elements are complete. A list of required elements follows:

• SF-424.

• SF-424A.

• SF-424B.

• Table of Contents.

• Executive Summary.

• Eligibility Discussion.

• Budget/Work Plan.

• Rural Area Evaluation Criterion.

• Per Capita Personal Income Evaluation Criterion.

• Experience Evaluation Criterion.

• Number of Producers Assisted Evaluation Criterion.

Incomplete applications that have four or fewer incomplete required elements and appear to be otherwise eligible will receive a letter requesting the incomplete items be provided within 12 business days of the date the letter was sent. If the requested items are not received when requested or are not complete, the application will not be evaluated further and will not be considered for funding. Applicants that propose budgets that include more than 10 percent of total project costs that are ineligible for the program will be ineligible and the application will not be considered for funding. If an application has ineligible costs of 10 percent or less of total project costs, and otherwise appears eligible, the applicant will receive a letter requesting that all ineligible costs be removed from the budget and work plan and either replaced with eligible activities or eliminated within 12 business days of the date the letter was sent. Any other incomplete or ineligible applications will not be further evaluated and will be considered ineligible for funding. Reviewers appointed by the Agency will evaluate applications.

C. Anticipated Announcement and Award Dates

Award Date: The announcement of award selections is expected to occur on or about August 30, 2006.

VI. Award Administration Information

A. Award Notices

Successful applicants will receive a notification of tentative selection for funding from Rural Development. Applicants must comply with all applicable statutes, regulations, and this notice before the grant award will receive final approval.

Unsuccessful applicants will receive notification, including mediation procedures and appeal rights, by mail.

B. Administrative and National Policy Requirements

7 CFR parts 3015, 3019, and subparts A and F of part 4284 are applicable to grants made under this notice. These regulations may be obtained at http://www.access.gpo.gov/nara/cfr/page1.

The following additional requirements apply to grantees selected for this program:

• Agency approved Grant Agreement.

• Letter of Conditions.

• Form RD 1940-1, “Request for Obligation of Funds.”

• Form RD 1942-46, “Letter of Intent to Meet Conditions.”

• Form AD-1047, “Certification Regarding Debarment, Suspension, and Other Responsibility Matters—Primary Covered Transactions.”

• Form AD-1048, “Certification Regarding Debarment, Suspension, Ineligibility and Voluntary Exclusion—Lower Tier Covered Transactions.”

• Form AD-1049, “Certification Regarding a Drug-Free Workplace Requirements (Grants).”

• Form RD 400-4, “Assurance Agreement.”

Additional information on these requirements can be found at http://www.rurdev.usda.gov/rbs/coops/SMPG/SMPG.htm.

Fund Disbursement: The Agency will determine, based on 7 CFR 3015, 3016 and 3019, as applicable, whether disbursement of a grant will be by advance or reimbursement. As needed, but not more frequently than once every 30 days, an original of SF-270, “Request for Advance or Reimbursement,” may be submitted to Rural Development. Recipient's request for advance shall not be made in excess of reasonable outlays for the month covered.

Reporting Requirements: You must provide Rural Development with an original or an electronic copy that includes all required signatures of the following reports. The reports should be submitted to the Agency contact listed on your Grant Agreement and Letter of Conditions. Failure to submit satisfactory reports on time may result in suspension or termination of your grant. Grantees will need to submit

1. Form SF-269 or SF-269A. A “Financial Status Report,” listing expenditures according to agreed upon budget categories, on a semiannual basis. Reporting periods end each March 31 and September 30. Reports are due 30 days after the reporting period ends.

2. Semiannual performance reports that compare accomplishments to the objectives stated in the proposal. Identify all tasks completed to date and provide documentation supporting the reported results. If the original schedule provided in the work plan is not being met, the report should discuss the problems or delays that may affect completion of the Project. Objectives for the next reporting period should be listed. Compliance with any special condition on the use of award funds must be discussed. Reports are due as provided in paragraph (1) of this section. Supporting documentation must also be submitted for completed tasks. The supporting documentation for completed tasks include, but are not limited to, feasibility studies, marketing plans, business plans, articles of incorporation, and bylaws as they relate to the assistance provided.

3. Final project performance reports that compare accomplishments to the objectives stated in the proposal. Identify all tasks completed and provide documentation supporting the reported results. If the original schedule provided in the work plan was not met, the report must discuss the problems or delays that affected completion of the project. Compliance with any special condition on the use of award funds must be discussed. Supporting documentation for completed tasks must also be submitted. The supporting documentation for completed tasks includes, but is not limited to, feasibility studies, marketing plans, business plans, articles of incorporation, and bylaws as they relate to the assistance provided. The final performance report is due within 90 days of the completion of the project.

VII. Agency Contacts

For general questions about this announcement and for program technical assistance, please contact Cooperative Programs at 202-720-7558 or cpgrants@wdc.usda.gov. You may contact Cooperative Programs by mail at Mail Stop 3250, Room 4016-South, 1400 Independence Avenue, SW., Washington, DC 20250-3250.

VIII. Non-Discrimination Statement

The U.S. Department of Agriculture (USDA) prohibits discrimination in all its programs and activities on the basis of race, color, national origin, age, disability, and where applicable, sex, martial status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD). To file a complaint of discrimination, write to USDA, Director, Office of Civil Rights, 1400 Independence Avenue, SW., Washington, DC 20250-9410, or call (800) 795-3272 (voice) or (202) 720-6382 (TDD). USDA is an equal opportunity provider and employer.

Dated: June 5, 2006.
Jackie J. Gleason,
Acting Administrator, Rural Business-Cooperative Service.

Small Minority Producer Grant Agreement

This Grant Agreement (Agreement) dated _, between

(Grantee), and the United States of America, acting through the Rural Business-Cooperative Service of the Department of Agriculture (Grantor), for $ in grant funds under the Small Minority Producer Grant (SMPG) program, delineates the agreement of the parties.

Now, therefore, in consideration of the grant;

The parties agree that all the terms and provisions of the SMPG Notice of Solicitation of Applications (NOSA) published in the Federal Register on June 13, 2006 and application submitted by the Grantee for this SMPG grant, including any attachments or amendments, are incorporated and included as part of this Agreement. Any changes to these documents or this Agreement must be approved in writing by the Grantor.

The Grantor agrees to make available to the Grantee for the purpose of this Agreement funds in an amount not to exceed the Grant funds, subject to the terms and conditions of this Agreement.

As a condition of the Agreement, the Grantee certifies that at least 51 percent of the outstanding interest in the project has membership or is owned by those who are either citizens of the United States or reside in the United States after being legally admitted for permanent residence.

As a condition of the Agreement, the Grantee certifies that it is in compliance with and will comply in the course of the Agreement with all applicable laws, regulations, Executive Orders, and other generally applicable requirements, including those contained in 7 CFR parts 3015, Uniform Federal Assistance Regulations, 3019 Uniform Administrative Requirements for Grants and Agreements with Institutions of Higher Education, Hospitals, and Other Non-profit Organizations, and the SMPG NOSA published in the Federal Register on June 13, 2006. which are incorporated into this agreement by reference, and such other statutory provisions as are specifically contained herein. The Grantee will comply with title VI of the Civil Rights Act of 1964, section 504 of the Rehabilitation Act of 1973, and Executive Order 12250.

As a condition of the Agreement, the Grantee certifies that its management has read and understands the requirements of 7 CFR parts 3015, 3017, “Government wide Debarment and Suspension Nonprocurement,” 3018, “Restrictions on Lobbying,” and 3019.

Now, therefore, the parties do hereby agree as follows:

A. Grant

1. The total amount of grant funds payable to the Grantee by the Grantor shall not exceed $ (Grant). Any unexpended Grant funds remaining at the time of project completion or termination of the Agreement shall be returned to the Grantor within 30 calendar days from the date of project completion or termination of the Agreement.

2. The funding period of this grant will begin on the date the Agreement has been signed by both parties, but no later than October 1, 2006, and will conclude within 365 days of the starting date. The Grantee may charge to the grant only allowable costs resulting from obligations incurred during the funding period.

3. The Grantee shall use Grant funds only for the purposes and activities specified in detail in Attachment A, entitled “GRANT WORK PLAN AND BUDGET” which is attached hereto and incorporated herein. Any uses not provided for in Attachment A must be approved in writing by the Grantor in advance of expenditure by the Grantee.

B. Financial Management

1. The Grantee shall relate financial data to performance data and develop unit cost information whenever practical.

2. The Grantee shall maintain a financial management system in accordance with 7 CFR 3019.21.

3. Payment shall be made in accordance with 7 CFR 3019.22. If the Grantee cannot maintain a financial management system in accordance with 7 CFR 3019.21 or if Grantee fails to satisfactorily meet any other conditions set forth in this Agreement, the Grantee may be paid on a reimbursement basis, at the discretion of the Grantor.

(i) If payment is to be made by the advancement method, the Grantee shall request advance payment, but not more frequently than once every 30 days, of grant funds by using Standard Form 270, “Request for Advance or Reimbursement.” Receipts, hourly wage rate, personnel payroll records, or other documentation must be provided upon request from the Agency.

(ii) If payment is to be made by reimbursement, the Grantee shall request reimbursement of grant funds, but not more frequently than once every 30 days, by using Standard Form 270. Receipts, hourly wage rate, personnel payroll records, or other documentation, as determined by the Agency, must be provided with the request to justify the amount.

4. If program income is earned during the time period of the grant, must first be added to the total project costs and used to further eligible project or program objectives. Program income earned in excess of funds that can be used for eligible expenses must be deducted from the total project or program allowable cost and will result in a reduction of the Federal share. Costs incident to the generation of program income may be deducted from gross income to determine program income, provided these costs have not been charged to the award.

5. The Grantee shall provide satisfactory evidence to the Grantor that the Grantee has complied with the bonding or insurance requirements specified by ATTACHMENT B, “BONDING COVERAGE,” which is attached hereto and incorporated herein.

6. The Grantee is subject to the audit requirements specified in ATTACHMENT C, “AUDIT REQUIREMENTS,” which is attached hereto and incorporated herein.

C. Procurement Standards

The Grantee must adhere to the procurement standards outlined in 7 CFR 3019.41 through 3019.48.

D. Reports

The Grantee shall submit financial and project performance reports satisfactory to the Grantor in accordance with ATTACHMENT D, “REPORTING REQUIREMENTS,” which is attached hereto and incorporated herein.

E. Site Visits

The Grantee will allow the Grantor to conduct site visits as needed for monitoring the Grantee's progress and auditing the Grantee's financial records related to the performance under this Agreement. Failure to allow the Grantor to conduct site visits shall be grounds for terminating the grant.

F. Compliance Review

The Grantee must collect and provide data on race, gender, national origin and any such records, accounts, and other sources of information and facilities as may be pertinent to ascertaining by the Agency the Grantee's compliance with Civil Rights laws. In general, the Grantee should have available racial and ethnic data showing the extent to which members of minority groups are beneficiaries of federally assisted programs. The Agency will conduct a Civil Rights compliance review of the Grantee as required.

G. Records

The Grantee shall retain and provide access to records as required by 7 CFR 3019.53.

H. Termination

The award that is the subject of this Agreement shall only be terminated in accordance with 7 CFR 3019.61.

I. Enforcement

The terms and conditions of this award will be enforced using the provisions of 7 CFR 3019.62.

In witness whereof, Grantee has this day authorized and caused this Agreement to be signed, its name and its corporate seal to be hereunto affixed and attested by its duly authorized officers thereunto, and the Grantor has caused this Agreement to be duly executed on its behalf by:

Grantor

United States of America

Rural Business-Cooperative Service

Signature Date

Name

Title

Grantee

Signature Date

Name

Title

Attachment A Grant Work Plan and Budget

The approved grant work plan and budget will be marked as attachment A.

Attachment B Bond Coverage

The Grantee shall provide satisfactory evidence to the Grantor that the Grantee holds fidelity bond coverage in the amount of $ that covers all officers and employees of the Grantee's organization authorized to receive or disburse Federal funds. The bond coverage shall be obtained from a company or companies holding certificates of authority as acceptable sureties, as prescribed in 31 CFR part 223, “Surety Companies Doing Business With the United States.”

Attachment C Audit Requirements

If the Grantee is a non-profit corporation or an institution of higher education and the Grantee expends $500,000 or more in Federal funds in one year, the Grantee shall be audited by a Certified Public Accountant. The audit, for the years the Grantee receives this financial assistance, will be conducted in accordance with Generally Accepted Government Auditing Standards (GAGAS) and OMB Circular A-133. These audits are due within 9 months after the end of the Grantee's fiscal year. The Grantor is to receive a copy of this audit.

If the Grantee is a non-profit corporation or an institution of higher education and the Grantee expends less than $500,000 in Federal funds in one year, the project shall be audited by a Certified Public Accountant in accordance with GAGAS. This audit will be a limited-scope audit focused only on the expenditure of grant and matching funds. The Grantor is to receive a copy of this audit.

Attachment D Reporting Requirements

You must provide Rural Development with a paper copy original or an electronic copy that includes all required signatures of the following reports. The reports should be submitted to the State Office Agency contact. Failure to submit satisfactory reports on time may result in suspension or termination of your grant. Both performance reports and financial reports must be in compliance with 7 CFR 3019.51 and 3019.52.

A. Form SF-269 or 269A. A “Financial Status Report,” listing expenditures according to agreed upon budget categories, on a semi-annual basis. Reporting periods end each March 31 and September 30. Reports are due 30 days after the reporting period ends. A final “Financial Status Report” is due within 90 calendar days of the completion of the project. Reports will be on a cash basis.

B. Semi-annual performance reports. These reports shall include the following:

1. A comparison of actual accomplishments to the objectives for that period. Objectives should be reported by specific task breakdown as described in the approved work plan and budget. Each group, cooperative or business assisted under a specific task must be discussed. Discussion must include the Cooperative's or Association of Cooperative's (or contractor's) role in assisting the group, cooperative or business and if any jobs were created or saved as a result of the assistance provided.

2. Reasons why established objectives were not met, if applicable.

3. Reasons for any problems, delays, or adverse conditions which will affect attainment of overall program objectives, prevent meeting time schedules or objectives, or preclude the attainment of particular objectives during established time periods. This disclosure shall be accomplished by a statement of the action taken or planned to resolve the situation.

4. Objectives and timetables established for the next reporting period.

5. A summary at the end of the report with the following elements to assist in documenting the annual performance goals of the SMPG program for Congress.

• Number of cooperatives assisted.

• Number of members assisted.

• Number of direct jobs created as a result of assistance.

• Number of direct jobs saved as a result of assistance.

6. Compliance with any special condition on the use of award funds should be discussed.

Reports are due as provided in paragraph (A) of this Attachment.

C. Final project performance reports. These reports shall include all of the requirements of paragraph (B) and the following:

1. Responses to the following.

(i) What have been the most challenging or unexpected aspects of this program?

(ii) What advice would you give to other organizations planning a similar program. These should include strengths and limitations of the program. If you had the opportunity, what would you have done differently?

(iii) If an innovative approach was used successfully, the Grantee should describe their program in detail so that other organizations might consider replication in their areas.

2. Copies of supporting documentation for completed tasks. The supporting documentation for completed tasks includes, but is not limited to, feasibility studies, marketing plans, business plans, copies of surveys conducted and survey results, and research reports.

The final performance report is due within 90 days of the completion of the project.

D. Form SF-272, “Report of Federal Cash Transactions.” If the Grantee receives advance payments, the Grantee shall submit a listing expenditures according to agreed upon budget categories, on a quarterly basis. Reporting periods end each March 31, June 30, September 30, and December 31. Reports are due 15 calendar days after the reporting period ends.

[FR Doc. E6-9175 Filed 6-12-06; 8:45 am]

BILLING CODE 3410-XY-P